DEPARTMENT OF COMMERCE

National Oceanic and Atmospheric Administration

50 CFR Part 622

[Docket No. 130403320-4891-02]

RIN 0648-XF283

Fisheries of the Caribbean, Gulf of Mexico, and South Atlantic; Snapper-Grouper Resources of the South Atlantic; 2017-2018 Recreational Fishing Season for Black Sea Bass

AGENCY: National Marine Fisheries Service (NMFS), National Oceanic and Atmospheric Administration (NOAA), Commerce.

ACTION: Temporary rule; recreational season length.

SUMMARY: NMFS announces that the length of the recreational season for black sea bass in the exclusive economic zone (EEZ) of the South Atlantic will extend throughout the 2017-2018 fishing year. Announcing the length of recreational season for black sea bass is one of the accountability measures (AMs) for the recreational sector. This announcement allows recreational fishers to maximize their opportunity to harvest the recreational annual catch limit (ACL) for black sea bass during the fishing season while managing harvest to protect the black sea bass resource.

DATES: This rule is effective from 12:01 a.m., local time, April 1, 2017, until 12:01 a.m., local time, April 1, 2018, unless changed by subsequent notification in the Federal Register.

FOR FURTHER INFORMATION CONTACT: Nikhil Mehta, NMFS Southeast Regional Office, telephone: 727-824-5305, email: nikhil.mehta@noaa.gov.

SUPPLEMENTARY INFORMATION: The snapper-grouper fishery includes black sea bass in the South Atlantic and is managed under the Fishery Management Plan for the Snapper-Grouper Fishery of the South Atlantic Region (FMP). The South Atlantic Fishery Management Council prepared the FMP and the FMP is implemented by NMFS under the authority of the Magnuson-Stevens Fishery Conservation and Management Act (Magnuson-Stevens Act) by regulations at 50 CFR part 622.

The final rule implementing Regulatory Amendment 14 to the FMP revised the recreational fishing year for black sea bass to be April 1 through March 31 (79 FR 66316, November 7, 2014). The final rule also revised the recreational AMs for black sea bass. Prior to the start of each recreational fishing year on April 1, NMFS will project the length of the upcoming recreational fishing season based on when NMFS projects the recreational ACL to be met and will announce the recreational season end date in the Federal Register (50 CFR 622.193(e)(2)). The purpose of this AM is to have a more predictable recreational season length while still constraining harvest at or below the recreational ACL to protect the stock from experiencing adverse biological consequences.

NMFS estimates that recreational landings for the 2017-2018 fishing year will be less than the 2017-2018 recreational ACL. To make this determination, NMFS compared landings in the last 3 fishing years to the 2017-2018 fishing year's recreational ACL of 848,455 lb (384,853 kg), gutted weight, 1,001,177 lb (454,126 kg), round weight. The recreational ACL was set through the final rule for Regulatory Amendment 19 to the FMP on September 23, 2013 (78 FR 58249). Landings in each of the past 3 years are below the 2017-2018 recreational ACL; therefore, recreational landings in 2017-2018 are projected to be less than the 2017-2018 recreational ACL. Accordingly, the season end date for recreational fishing for black sea bass in the South Atlantic EEZ, south of 35°15.9′ N. lat., is the end of the 2017-2018 fishing year, March 31, 2018.

Classification

The Regional Administrator, Southeast Region, NMFS, has determined this temporary rule is necessary for the conservation and management of South Atlantic black sea bass and is consistent with the Magnuson-Stevens Act and other applicable laws.

This action is taken under 50 CFR 622.193(e)(2) and is exempt from review under Executive Order 12866.

These measures are exempt from the procedures of the Regulatory Flexibility Act because the temporary rule is issued without opportunity for prior notice and comment.

This action responds to the best scientific information available. The Assistant Administrator for Fisheries, NOAA (AA), finds that the need to immediately implement the notice of the recreational season length constitutes good cause to waive the requirements to provide prior notice and opportunity for public comment pursuant to the authority set forth in 5 U.S.C. 553(b)(B), because prior notice and opportunity for public comment on this temporary rule is unnecessary. Such procedures are unnecessary, because the rule establishing the AM has already been subject to notice and comment, and all that remains is to notify the public of the recreational season length.

For the aforementioned reasons, the AA also finds good cause to waive the 30-day delay in the effectiveness of this action under 5 U.S.C. 553(d)(3).

Authority: 16 U.S.C. 1801 et seq.

Dated: March 20, 2017.
Karen H. Abrams,
Acting Deputy Director, Office of Sustainable Fisheries, National Marine Fisheries Service.

[FR Doc. 2017-05862 Filed 3-21-17; 4:15 pm]

BILLING CODE 3510-22-P